FEDERAL COMMUNICATIONS COMMISSION

47 CFR Part 0

[FCC 02-243]

Compliance with Federal Financial Management Requirements

AGENCY: Federal Communications Commission.

ACTION: Final rule.

SUMMARY: This document revises the Commission's rules to require any Bureau or Office recommending action to the Commission or taking action under delegated authority on any matter that may affect compliance with Federal financial management requirements, to confer with the Office of the Managing Director.

DATES: November 21, 2002.

FOR FURTHER INFORMATION CONTACT: Regina Dorsey at 202-418-1993.

SUPPLEMENTARY INFORMATION: To better assure comprehensive and consistent management of the agency's financial responsibilities and compliance with all Federal financial management requirements, including the Federal Debt Collection Act and implementing regulations adopted by the Department of Justice and the Department of Justice, the Federal Financial Management Improvement Act of 1996 (FFMIA), the Federal Managers Financial Integrity Act of 1982 (FMFIA), the Government Management Reform Act of 1994 (GRMA), the Information Technology Management Reform Act of 1996 (ITMRA), the Federal Credit Reform Act of 1990 (FCRA), the Federal Acquisition Regulation (FAR), and the Government Performance and Results Act of 1993, and others, the Commission thinks it necessary and prudent to involve the Office of the Managing Director in any such matters. The Commission's Managing Director currently has responsibility for overseeing Commission financial management activities, including compliance with the foregoing requirements, as well as the responsibility for advising the Commission on management implications of Commission and Bureau actions. See 47 CFR 0.11(a)(4), (8). As such, in this order, we amend section 0.5 of the Commission's rules, 47 CFR 0.5, to require any Bureau or Office recommending Commission action or taking action under delegated authority on any matter that may affect compliance with Federal financial management requirements to confer with the Office of the Managing Director. Upon forwarding any such item to the Commission the Office or Bureau must indicate the position of the Managing Director. The amended rule will not, however, affect the existing authority of the various Bureaus and Offices over substantive regulatory matters associated with their programs. See 47 CFR 0.11(a)(1)

The rule amendments adopted herein involve rules of agency organization, procedure, or practice, and the notice and comment and effective date provisions of the Administrative Procedure Act are therefore inapplicable. 5 U.S.C. 553(b)(A), (d).

Accordingly, it is ordered, that pursuant to sections 4(i), 4(j), 5(c), 303(r), 47 U.S.C. 4(i), 4(j), 5(c), 303(r), 47 CFR part 0 is amended as set forth below, effective November 21, 2002.

List of Subjects in 47 CFR Part 0

Organization and functions (government agencies).

Federal Communications Commission.
Marlene H. Dortch,
Secretary.

Rule Changes

For the reasons discussed in the preamble, the Federal Communications Commission amends 47 CFR part 0 as follows:

PART 0—COMMISSION ORGANIZATION

1. The authority citation for part 0 continues to read as follows:

Authority: Secs. 5, 48 Stat. 1068, as amended; 47 U.S.C. 155.

2. Section 0.5 is amended by adding paragraph (e) to read as follows:

§ 0.5 General Description of Commission organization and operations.

* * * * *

(e) Compliance with Federal financial management requirements. Any Bureau or Office recommending Commission action that may affect agency compliance with Federal financial management requirements must confer with the Office of Managing Director. Such items will indicate the position of the Managing Director when forwarded to the Commission. Any Bureau or Office taking action under delegated authority that may affect agency compliance with Federal financial management requirements must confer with the Office of the Managing Director before taking action.

[FR Doc. 02-29581 Filed 11-20-02; 8:45 am]

BILLING CODE 6712-01-P